DEPARTMENT OF ENERGY

Federal Energy Regulatory Commission

[Project No. 12962-002]

Newburgh Hydro, LLC; Notice of Technical Conference

On Tuesday, November 17, 2015, Commission staff will hold a technical conference to discuss the concerns of Alcoa Inc. and Alcoa Power Generating Inc. related to navigation at Newburgh Hydro, LLC's proposed Newburgh Hydroelectric Project No. 12962.

The technical conference will begin at 2:00 p.m. Eastern Standard Time. The conference will be held at the Federal Energy Regulatory Commission headquarters building located at 888 1st Street NE., Washington, DC, and will include teleconference capabilities.

All local, state, and federal agencies, Indian tribes, and other interested parties are invited to participate. There will be no transcript of the conference, but a summary of the meeting will be prepared for the project record. If you are interested in participating in the meeting you must contact Emily Carter at (202) 502-6512 or emily.carter@ferc.gov by November 12, 2015 to receive specific instructions on how to participate.

Dated: October 30, 2015.
Nathaniel J. Davis, Sr.,
Deputy Secretary.

[FR Doc. 2015-28212 Filed 11-4-15; 8:45 am]

BILLING CODE 6717-01-P